INTERNATIONAL TRADE COMMISSION

[Investigation Nos. 701-TA-618-619 and 731-TA-1441-1442 (Final)]

Carbon and Alloy Steel Threaded Rod From China and India; Supplemental Schedule for the Final Phase of Countervailing Duty and Antidumping Duty Investigations

AGENCY: United States International Trade Commission.

ACTION: Notice.

DATES: February 18, 2020.

FOR FURTHER INFORMATION CONTACT: Kristina Lara ((202) 205-3386), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective August 7, 2019, the Commission established a general schedule for the conduct of the final phase of its investigations on carbon and alloy steel threaded rod (“threaded rod”) from China, India, Taiwan, and Thailand,¹ following a preliminary determination by the U.S. Department of Commerce (“Commerce”) that imports of threaded rod from Thailand were being sold at less than fair value (LTFV) in the United States.² Notice of the scheduling of the final phase of the Commission's investigations and of a public hearing to be held in connection therewith was given by posting copies of the notice in the Office of the Secretary, U.S. International Trade Commission, Washington, DC, and by publishing the notice in the Federal Register of August 27, 2019 (84 FR 44916). The hearing was held in Washington, DC, on October 15, 2019, and all persons who requested the opportunity were permitted to appear in person or by counsel. On October 21, 2019, Commerce issued a final affirmative determination of sales at LTFV and critical circumstances with respect to imports of threaded rod from Thailand.³ The Commission issued its final affirmative determination regarding LTFV imports of threaded rod from Thailand on December 5, 2019. On December 9, 2019, Commerce issued its final affirmative determination that imports of threaded rod from Taiwan were being sold at LTFV in the United States.⁴ The Commission issued its final affirmative determination regarding LTFV imports of threaded rod from Taiwan on January 23, 2020.

¹ 84 FR 44916, August 27, 2019.

² 84 FR 38597, August 7, 2019.

³ 84 FR 56162, October 21, 2019.

⁴ 84 FR 67258, December 9, 2019.

On February 18, 2020, Commerce issued its final affirmative determinations that imports of threaded rod were being sold in the United States at less than fair value (“LTFV”), and were being subsidized by the governments of China and India.⁵ Accordingly, the Commission currently is issuing a supplemental schedule for its antidumping and countervailing duty investigations on imports of threaded rod from China and India.

⁵ 85 FR 8818, February 18, 2020, 85 FR 8821, February 18, 2020, 85 FR 8828, February 18, 2020, and 85 FR 8833, February 18, 2020.

This supplemental schedule is as follows: The deadline for filing supplemental party comments on Commerce's final antidumping and countervailing duty determinations is February 27, 2020. Supplemental party comments may address only Commerce's final antidumping and countervailing duty determinations regarding imports of threaded rod from China and India. These supplemental final comments may not contain new factual information and may not exceed five (5) pages in length. The supplemental staff report in the final phase of these investigations regarding subject imports from China and India will be placed in the nonpublic record on March 12, 2020; and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: These investigations are being conducted under authority of title VII of the Tariff Act of 1930; this notice is published pursuant to section 207.21 of the Commission's rules.

By order of the Commission.
Issued: February 21, 2020.
Lisa Barton,
Secretary to the Commission.

[FR Doc. 2020-03875 Filed 2-25-20; 8:45 am]

BILLING CODE 7020-02-P